OFFICE OF THE UNITED STATES TRADE REPRESENTATIVE

[Docket Number USTR-2020-0014]

Request for Comments on Additional Modifications to the 301 Action To Address COVID-19: China's Acts, Policies, and Practices Related to Technology Transfer, Intellectual Property, and Innovation

AGENCY: Office of the United States Trade Representative.

ACTION: Notice and request for comments.

SUMMARY: In prior notices, the U.S. Trade Representative has modified the action in the Section 301 investigation of China's acts, policies, and practices related to technology transfer, intellectual property, and innovation by removing additional duties from medical-care products needed to address the COVID-19 outbreak. In light of ongoing developments, the Office of the U.S. Trade Representative (USTR) is requesting public comments on possible further modifications to remove duties from additional medical-care products.

DATES: The docket for comments will remain open at least until June 25, 2020, and may be extended as appropriate. To facilitate timely consideration of possible modifications, interested parties should submit comments as promptly as possible. To be assured of consideration, any responses to comments should be submitted within three business days after a comment is posted in the docket.

ADDRESSES: USTR strongly prefers electronic submissions made through the Federal eRulemaking Portal: http://www.regulations.gov (Regulations.gov). Follow the instructions for submitting requests for exclusion and responses to requests in Section C below. The docket number is USTR-2020-0014.

FOR FURTHER INFORMATION CONTACT: For questions about this notice, contact Associate General Counsels Philip Butler or Megan Grimball at (202) 395-5725.

SUPPLEMENTARY INFORMATION:

A. Background

At the direction of the President, the U.S. Trade Representative has imposed duties on products of China in order to obtain the elimination of the unfair and damaging acts, policies, and practices identified in this investigation. The duties have been imposed in four tranches. See 83 FR 28719 (June 20, 2018), 83 FR 40823 (August 16, 2018), 83 FR 47974 (September 21, 2018), as modified by 83 FR 49153 (September 28, 2018), and 84 FR 43304 (August 20, 2019), as modified by 84 FR 69447 and 85 FR 3741.

For each tranche, the U.S. Trade Representative established a process by which U.S. stakeholders could request exclusion of particular products classified within an eight-digit Harmonized Tariff Schedule of the United States (HTSUS) subheading covered by the action. See 83 FR 32181 (July 11, 2018), 83 FR 47236 (September 18, 2018), 84 FR 29576 (June 24, 2019), and 84 FR 57144 (October 24, 2019). The exclusion processes for tranches 3 and 4 are still in process, and are not affected by this notice.

Throughout the exclusion process, USTR assessed medical necessity in granting exclusions, consistent with its published criteria. In addition, the U.S. Trade Representative, in consultation with the Department of Health and Human Services (HHS), prioritized the review of exclusion requests addressed to medical-care products related to the U.S. response to COVID-19, and granted approximately 200 separate exclusions on March 5, 2020. See 85 FR 13970 (March 10, 2020), 85 FR 15015 (March 16, 2020), and 85 FR 15244 (March 17, 2020). The exclusions covered personal protective equipment products and other medical-care related products.

B. Request for Public Comments

In order to reflect developments in the efforts to respond to the COVID-19 outbreak, USTR is requesting public comments on possible further modifications to remove duties from additional medical-care products. USTR invites comments from interested persons with respect to whether a particular product covered by the action in this investigation is needed to respond to the COVID-19 outbreak. The docket for comments will remain open at least until June 25, 2020, and may be extended as appropriate. To facilitate timely consideration of possible modifications, interested persons should submit comments as promptly as possible. Interested persons may also submit responses to comments. To be assured of consideration, any responses to comments should be submitted within three business days after a comment is posted in the docket. USTR will review comments on a rolling basis.

Each comment specifically must identify the particular product of concern and explain precisely how the product relates to the response to the COVID-19 outbreak. For example, the comment may address whether a product is directly used to treat COVID-19 or to limit the outbreak, and/or whether the product is used in the production of needed medical-care products.

Comments may be submitted regarding any product covered by the action in the investigation, regardless of whether the product is subject to a pending or denied exclusion request.

In order to facilitate timely consideration of possible modifications, commenters should define the product of concern as precisely as possible. All comments must include the following information, to the extent possible: The ten-digit subheading of the HTSUS applicable to the product, and the identity of the particular product in terms of its functionality and physical characteristics (e.g., dimensions, material composition, or other characteristics). Commenters may provide information concerning the producer, importer, ultimate consumer, or trademarks or tradenames, but this is less helpful.

C. Submission Instructions

All submissions must be in English and sent electronically via Regulations.gov. To submit comments via www.regulations.gov, enter docket number USTR-2020-0014 on the home page and click `search.' The site will provide a search-results page listing all documents associated with this docket. Find a reference to this notice and click on the link titled `comment now!' For further information on using the www.regulations.gov website, please consult the resources provided on the website by clicking on `How to Use Regulations.gov' on the bottom of the home page. USTR will not accept hand-delivered submissions.

The Regulations.gov website allows users to submit comments by filling in a `comment' field or by attaching a document using an `upload file' field. USTR prefers that you submit comments in an attached document. If you attach a document, it is sufficient to type `see attached' in the `comment' field. USTR prefers submissions in Microsoft Word (.doc) or searchable Adobe Acrobat (.pdf). If you use an application other than those two, please indicate the name of the application in the `comment' field.

File names should reflect the name of the person or entity submitting the comments. Please do not attach separate cover letters to electronic submissions; rather, include any information that might appear in a cover letter in the comments themselves. Similarly, to the extent possible, please include any exhibits, annexes, or other attachments in the same file as the comment itself, rather than submitting them as separate files.

You can view submissions on the Regulations.gov website by entering docket number USTR-2020-0014 in the search field on the home page.

Joseph Barloon,
General Counsel, Office of the United States Trade Representative.

[FR Doc. 2020-06285 Filed 3-23-20; 8:45 am]

BILLING CODE 3290-F0-P